DEPARTMENT OF TRANSPORTATION

Federal Highway Administration

Notice of Final Federal Agency Actions on Proposed Highway in Maryland

AGENCY: Federal Highway Administration (FHWA), DOT.

ACTION: Notice of limitation on claims for judicial review of actions by FHWA, U.S. Army Corps of Engineers (USACE), DoD, and other Federal agencies.

SUMMARY: This notice announces actions taken by the FHWA, USACE, and other Federal agencies that are final within the meaning of 23 U.S.C. 139(l)(1). The actions relate to a proposed highway project, the Intercounty Connector, I-270 to US 1 in Montgomery and Prince George's Counties in the State of Maryland. Those actions grant licenses, permits and approvals for the project.

DATES: By this notice, the FHWA is advising the public of final agency actions subject to 23 U.S.C. 139(l)(1). A claim seeking judicial review of the Federal agency actions on the highway project will be barred unless the claim is filed on or before December 20, 2006. If the Federal law that authorizes judicial review of a claim provides a time period of less than 180 days for filing such claim, then that shorter time period still applies.

FOR FURTHER INFORMATION CONTACT: Mr. Dan Johnson, Environmental Program Manager, Federal Highway Administration, City Crescent Building, Suite 2450, 10 S. Howard Street, Baltimore, MD 21202, 410-962-4440, Maryland.fhwa@dot.gov (regular office hours are 8 a.m. to 4:30 p.m.); or Mr. Wesley Mitchell, Project Manager, Maryland State Highway Administration, 707 North Calvert Street, Mail Stop C-301, Baltimore, MD 21202, 1-866-462-0020, wmitchell@sha.state.md.us (regular office hours are 8 a.m. to 4 p.m.); or Mr. Paul Wettlaufer, U.S. Army Corps of Engineers, Baltimore District—CENAB-OP-R, P.O. Box 1715, Baltimore, Maryland 21203-1715, (410) 962-5676, paul.wettlaufer@usace.army.mil (regular office hours are 8:30 a.m. to 4 p.m.).

SUPPLEMENTARY INFORMATION: Notice is hereby given that the FHWA, USACE, and other Federal agencies have taken final agency actions by issuing licenses, permits, and approvals for the following highway project in the State of Maryland: the Intercounty Connector (Project No. AT376B11), from I-270 to US 1 in Montgomery and Prince George's Counties. The project will be a multi-modal limited-access six-lane toll highway approximately 19 miles in length. The Intercounty Connector will serve to link existing and proposed development areas between the I-270 and I-95/US 1 corridors within central and eastern Montgomery County and northwestern Prince George's County. The actions by the Federal agencies, and the laws under which such actions were taken, are described in the Final Environmental Impact Statement (FEIS) for the project approved on January 3, 2006, in the FHWA Record of Decision (ROD) issued on May 29, 2006, and in other project records. The FEIS, ROD, and other documents in the FHWA project file are available by contacting the FHWA or the Maryland State Highway Administration at the addresses provided above. the FHWA FEIS and ROD can be viewed and downloaded from the project Web site at http://www.iccstudy.org, or viewed at public libraries in the project area. The USACE ROD and Permit # CENAB-OP-RMS (MD SHA & MTA/INTERCOUNTY CONNECTOR) 05-60011-1, issued on June 13, 2006, can be viewed and downloaded from the USACE Web site at http://www.nab.usace.army.mil/Regulatory/news.htm.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archaeological Resources Protection Act of 1977 [16 U.S.C. 470(aa)-(ii)]; Archaeological and Historic Preservation Act [16 U.S.C. 469-469(c)].

6. Social and Economic: Civil Rights Act of 1964 [42 U.S.C. 2000(d)-2000(d)(1)]; Farmland Protection Policy Act (FPPA) [7 U.S.C. 4201-4209].

7. Wetlands and Water Resources: Clean Water Act, 33 U.S.C. 1251-1377 (section 404, section 401, section 319); Coastal Zone Management Act, 16 U.S.C. 1451-1465; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Hazardous Materials: Comprehensive Environmental Response, Compensation, and Liability Act (CERCLA), 42 U.S.C. 9601-9675; Resource Conservation and Recovery Act (RCRA), 42 U.S.C. 6901-6992(k).

9. Executive Orders: E.O. 11990 Protection of Wetlands; E.O. 11988 Floodplain Management; E.O. 12898, Federal Actions to Address Environmental Justice in Minority Populations and Low Income Populations; E.O. 11593 Protection and Enhancement of Cultural Resources; E.O. 11514 Protection and Enhancement of Environmental Quality; E.O. 13112 Invasive Species; E.O. 13274 Environmental Stewardship and Transportation Infrastructure Project Reviews.

(Catalog of Federal Domestic Assistance Program Number 20.205, Highway Planning and Construction. The regulations implementing Executive Order 12372 regarding intergovernmental consultation of Federal programs and activities apply to this program.)

Authority: 23 U.S.C. 139(l)(1).

Issued on: June 16, 2006.
Nelson J. Castellanos,
Division Administrator, Baltimore, MD.

[FR Doc. 06-5615 Filed 6-22-06; 8:45 am]

BILLING CODE 4910-22-M